SECURITIES AND EXCHANGE COMMISSION

[Release No. IC-27050]

Notice of Applications for Deregistration Under Section 8(f) of the Investment Company Act of 1940

August 26, 2005.

The following is a notice of applications for deregistration under section 8(f) of the Investment Company Act of 1940 for the month of August 2005. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on September 20, 2005, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-9303. For Further Information Contact: Diane L. Titus at (202) 551-6810, SEC, Division of Investment Management, Office of Investment Company Regulation, 100 F Street, NE., Washington, DC 20549-0504.

Columbia Growth Fund, Inc. [File No. 811-1449]

Columbia Common Stock Fund, Inc. [File No. 811-6341]

Summary: Each applicant seeks an order declaring that it has ceased to be an investment company. On March 18, 2005, each applicant transferred its assets to a corresponding series of Columbia Funds Trust XI, based on net asset value. Expenses of approximately $262,500 and $166,500, respectively, incurred in connection with the reorganization were paid by each acquiring fund and Columbia Management Group, Inc., the parent company of applicants' investment adviser.

Filing Dates: The applications were filed on May 27, 2005, and amended on August 18, 2005.

Applicants' Address: One Financial Center, Boston, MA 02110.

Alyeska Fund, L.L.C. [File No. 811-10397]

Sawgrass Fund, L.L.C. [File No. 811-9727]

Summary: Each applicant, a closed-end investment company, seeks an order declaring that it has ceased to be an investment company. On July 16, 2004 and March 10, 2005, respectively, each applicant made a liquidating distribution to its shareholders, based on net asset value. Applicants incurred expenses of $22,428 and $176,608, respectively, in connection with the liquidations.

Filing Dates: The applications were filed on June 24, 2005, and amended on August 5, 2005 and August 8, 2005, respectively.

Applicants' Address: c/o Oppenheimer & Co., Inc., 200 Park Ave., 24th Floor, New York, NY 10116.

The Vantage Funds [File No. 811-21678]

Summary: Applicant seeks an order declaring that it has ceased to be an investment company. Applicant is not making a public offering of its securities and does not propose to make a public offering. Applicant currently has 1 beneficial owner and will continue to operate as a private investment company in reliance on section 3(c)(1) of the Act.

Filing Dates: The application was filed on June 13, 2005, and amended on August 2, 2005.

Applicant's Address: Newberry Business Center, 600 Main St., Suite 100, Stroudsburg, PA 18360.

Scudder Asset Management Portfolio [File No. 811-6699]

Summary: Applicant, a master fund in a master-feeder structure, seeks an order declaring that it has ceased to be an investment company. On July 8, 2004, applicant's sole feeder fund, Lifecycle Long Range Fund, a series of Scudder Advisor Funds III, withdrew its assets from applicant in a redemption-in-kind, thus converting the Lifecycle Long Range Fund into a stand-alone fund. As a result of the redemption, applicant has no remaining assets or shareholders. Expenses of $2,000 incurred in connection with the liquidation were paid by Lifecycle Long Range Fund.

Filing Dates: The application was filed on March 31, 2005, and amended on August 9, 2005.

Applicant's Address: 1 South St., Baltimore, MD 21202.

CIGNA Funds Group [File No. 811-1646]

Summary: Applicant seeks an order declaring that it has ceased to be an investment company. Between September 30, 2004 and March 30, 2005, eight of applicant's series made a liquidating distribution to their shareholders, based on net asset value. On April 8, 2005 applicant's remaining Small Cap Growth/TimesSquare Fund series transferred its assets to a corresponding series of Managers AMG Funds. Expenses of $276,161 incurred in connection with the liquidation and reorganization were paid by CIGNA Investment Advisors, Inc., applicant's investment adviser, TimesSquare Acquisition, LLC, and Prudential Retirement Brokerage Services, Inc., applicant's underwriter.

Filing Dates: The application was filed on June 15, 2005, and amended on August 4, 2005.

Applicant's Address: c/o CIGNA Investment Advisors, Inc., 280 Trumbull St., Hartford, CT 06103.

CIGNA Institutional Funds Group [File No. 811-7236]

Summary: Applicant seeks an order declaring that it has ceased to be an investment company. On September 30, 1999, applicant made a liquidating distribution to affiliates of the sponsor who provided seed money for applicant. Applicant incurred no expenses in connection with the liquidation.

Filing Dates: The application was filed on June 20, 2005, and amended on August 3, 2005.

Applicant's Address: c/o CIGNA Investment Advisors, Inc., 280 Trumbull St., Hartford, CT 06103.

BDI Investment Corporation [File No. 811-3868]

Summary: Applicant, a closed-end investment company, seeks an order declaring that it has ceased to be an investment company. On April 20, 2005, applicant made a liquidating distribution to its shareholders, based on net asset value. Expenses of $17,663 incurred in connection with the liquidation were paid by applicant. Any unclaimed funds will be held by Registrar and Transfer Company for six months, after which they will escheat to the state.

Filing Dates: The application was filed on May 3, 2005, and amended on August 3, 2005.

Applicant's Address: 990 Highland Dr., Suite 100, Solana Beach, CA 92075.

SouthTrust Funds [File No. 811-6580]

Summary: Applicant seeks an order declaring that it has ceased to be an investment company. On March 21, 2005, applicant's six series transferred their assets to corresponding series of Evergreen Select Equity Trust, Evergreen Select Fixed Income Trust, Evergreen Money Market Trust, Evergreen Municipal Trust and Evergreen Equity Trust, based on net asset value. Expenses of $501,785 incurred in connection with the reorganization were paid by Wachovia Corporation, the parent of applicant's investment advisor.

Filing Dates: The application was filed on April 29, 2005, and amended on August 3, 2005.

Applicant's Address: Federated Investors Tower, 5800 Corporate Dr., Pittsburgh, PA 15237-7010.

Redwood Microcap Fund, Inc. [File No. 811-3986]

Summary: Applicant, a closed-end investment company, seeks an order declaring that it has ceased to be an investment company. Applicant has 1 shareholder and presently is not making a public offering and does not propose to make a public offering of its securities. Applicant will continue to operate as a private investment fund in reliance on section 3(c)(1) of the Act.

Filing Dates: The application was filed on October 1, 1993, and amended on February 1, 1994, July 28, 1995, January 2, 2002, July 12, 2005 and August 3, 2005.

Applicant's Address: 6180 Lehman Dr. #103, Colorado Springs, CO 80918.

Wynstone Fund, L.L.C. [File No. 811-8959]

Stratigos Fund, L.L.C. [File No. 811-9939]

Summary: Each applicant, a closed-end investment company, seeks an order declaring that it has ceased to be an investment company. On July 28, 2005, each applicant made a final liquidating distribution to its shareholders, based on net asset value. Expenses of $138,497 and $129,696, respectively, incurred in connection with the liquidations were paid by each applicant.

Filing Dates: The applications were filed on July 29, 2005, and amended on August 5, 2005.

Applicant's Address: c/o Oppenheimer & Co., Inc., 200 Park Ave., 24th Floor, New York, NY 10116.

Washington Investors Plans Inc. [File No. 811-828]

Summary: Applicant, a unit investment trust, seeks an order declaring that it has ceased to be an investment company. Between November 1, 2004 and April 29, 2005, applicant made final liquidating distributions to its plan holders, based on net asset value. Applicant incurred no expenses in connection with the liquidation.

Filing Date: The application was filed on July 20, 2005.

Applicant's Address: 1101 Vermont Ave., NW., Suite 600, Washington, DC 20005.

ASA Debt Arbitrage Fund LLC [File No. 811-21389]

ASA Managed Futures Fund LLC [File No. 811-21390]

ASA Market Neutral Equity Fund LLC [File No. 811-21391]

ASA Hedged Equity Fund LLC [File No. 811-21392]

Summary: Each applicant, a closed-end investment company, seeks an order declaring that it has ceased to be an investment company. On April 30, 2005, each applicant made a final liquidating distribution to its shareholders, based on net asset value. Applicants incurred no expenses in connection with the liquidations.

Filing Date: The applications were filed on August 9, 2005.

Applicants' Address: 817 West Peachtree St., NW., Suite 400, Atlanta, GA 30308-1144.

AIM International Funds, Inc. II (Formerly INVESCO International Funds, Inc.) [File No. 811-7758]

Summary: Applicant seeks an order declaring that it has ceased to be an investment company. On October 24, 2003 and October 31, 2003, applicant transferred its assets to corresponding series of AIM International Mutual Funds and AIM International Funds, Inc., based on net asset value. Expenses of $141,283 incurred in connection with the reorganization were paid by INVESCO Funds Group, Inc., applicant's investment adviser.

Filing Dates: The application was filed on April 26, 2005, and amended on August 9, 2005.

Applicant's Address: 11 Greenway Plaza, Suite 100, Houston, TX 77046-1173.

AIM Manager Series Funds, Inc. (Formerly INVESCO Manager Series Funds, Inc.) [File No. 811-21103]

Summary: Applicant seeks an order declaring that it has ceased to be an investment company. On October 31, 2003, applicant transferred its assets to AIM Counselor Series Trust, based on net asset value. Expenses of $69,538 incurred in connection with the reorganization were paid by applicant and INVESCO Funds Group, Inc., applicant's investment adviser.

Filing Dates: The application was filed on April 25, 2005, and amended on August 9, 2005.

Applicant's Address: 11 Greenway Plaza, Suite 100, Houston, TX 77046-1173.

Short-Term Investments Co. [File No. 811-7892]

Summary: Applicant seeks an order declaring that it has ceased to be an investment company. On November 4, 2003, applicant transferred its assets to Short-Term Investments Trust, based on net asset value. Expenses of $128,880 incurred in connection with the reorganization were paid by AIM Advisors, Inc., applicant's investment adviser.

Filing Dates: The application was filed on April 25, 2005, and amended on August 9, 2005.

Applicant's Address: 11 Greenway Plaza, Suite 100, Houston, TX 77046-1173.

AIM Series Trust [File No. 811-7787]

Summary: Applicant seeks an order declaring that it has ceased to be an investment company. On November 4, 2003, applicant transferred its assets to AIM Growth Series, based on net asset value. Expenses of $33,416 incurred in connection with the reorganization were paid by AIM Advisors, Inc., applicant's investment adviser.

Filing Dates: The application was filed on April 25, 2005, and amended on August 9, 2005.

Applicant's Address: 11 Greenway Plaza, Suite 100, Houston, TX 77046-1173.

AIM Money Market Funds, Inc. (Formerly INVESCO Money Market Funds, Inc.) [File No. 811-2606]

Summary: Applicant seeks an order declaring that it has ceased to be an investment company. On November 3, 2003 and November 4, 2003, applicant transferred its assets to corresponding series of AIM Treasurer's Series Trust, AIM Investment Securities Funds and AIM Tax-Exempt Funds, based on net asset value. Expenses of $264,024 incurred in connection with the reorganization were paid by INVESCO Funds Group, Inc., applicant's investment adviser.

Filing Dates: The application was filed on April 25, 2005, and amended on August 9, 2005.

Applicant's Address: 11 Greenway Plaza, Suite 100, Houston, TX 77046-1173.

AIM Advisor Funds [File No. 811-3886]

Summary: Applicant seeks an order declaring that it has ceased to be an investment company. On October 27, 2003 and October 29, 2003, applicant transferred its assets to AIM Investment Securities Funds and INVESCO International Funds, Inc., based on net asset value. Expenses of $69,489 incurred in connection with the reorganization were paid by applicant and AIM Advisors, Inc., applicant's investment adviser.

Filing Date: The application was filed on April 25, 2005, and amended on August 9, 2005.

Applicant's Address: 11 Greenway Plaza, Suite 100, Houston, TX 77046-1173.

AIM Bond Funds, Inc. [File No. 811-2674]

Summary: Applicant seeks an order declaring that it has ceased to be an investment company. On October 27, 2003 and November 3, 2003, applicant transferred its assets to AIM Investment Securities Funds, based on net asset value. Expenses of $338,074 incurred in connection with the reorganization were paid by applicant and AIM Advisors, Inc., applicant's investment adviser.

Filing Dates: The application was filed on April 25, 2005, and amended on August 9, 2005.

Applicant's Address: 11 Greenway Plaza, Suite 100, Houston, TX 77046-1173.

AllianceBernstein Global Small Cap Fund, Inc. [File No. 811-1415]

AllianceBernstein Select Investor Series, Inc. [File No. 811-9176]

Summary: Each applicant seeks an order declaring that it has ceased to be an investment company. By March 1, 2005, each applicant had made a liquidating distribution to its shareholders, based on net asset value. Expenses of $26,140 and $57,543, respectively, incurred in connection with the liquidations were paid by Alliance Capital Management L.P., applicants' investment adviser.

Filing Date: The applications were filed on August 4, 2005.

Applicants' Address: 1345 Avenue of the Americas, New York, NY 10105.

Lincoln New York Separate Account T for Variable Annuities [File No. 811-21041]

Summary: Applicant, a separate account for variable annuities, seeks an order declaring that it has ceased to be an investment company. Applicant has never made a public offering of its securities, does not propose to make a public offering, and has never had any contractowners invested in the separate account.

Filing Dates: The application was filed on May 11, 2005, and amended on July 27, 2005.

Applicant's Address: 100 Madison Street, Suite 1860, Syracuse, New York 13202.

Cigna Variable Products Group [File No. 811-5480]

Summary: Applicant seeks an order declaring that it has ceased to be an investment company. Applicant's board of directors approved the merger of Applicant's Core Plus Bond series into the PIMCO Total Return Portfolio and Applicant's Money Market series into the PIMCO Money Market Portfolio on December 20, 2004 and Applicant's S&P 500 Index series into the Dreyfus Stock Index Fund, Inc. on February 24, 2005. Shareholders of the Money Market and Core Plus Bond series approved the mergers on April 21, 2005. Shareholders of the S&P Index series approved the merger on April 27, 2005. The mergers took place on April 22, 2005 for the Money Market and Core Plus Bond series and on April 29, 2005 for the S&P 500 series. All of the expenses of the mergers were paid by CIGNA Investment Advisors, Inc., The Dreyfus Corporation (relative to the S&P 500 Index series) and Pacific Investment Management LLC (relative to the Money Market and Core Plus Bond series). Applicant has no remaining assets and no outstanding debts or liabilities.

Filing Dates: The application was filed on June 15, 2005, and amended on July 27, 2005.

Applicant's Address: c/o CIGNA Investment Advisors, Inc., 280 Trumbull Street, Hartford, CT 06103.

GALIC of New York Separate Account I. [File No. 811-9341]

Summary: Applicant, a separate account of Great American Life Insurance Company of New York, seeks an order declaring that it has ceased to be an investment company. Applicant has not made any public offering of its securities and is not now engaged, or intending to engage, in any business activities other than those necessary for winding up its affairs.

Filing Date: The application was filed on July 21, 2005.

Applicant's Address: 14th Floor, 125 Park Avenue, New York, NY 10017.

JNL Variable Fund III LLC [File No. 811-9369]

Summary: Applicant seeks an order declaring that it has ceased to be an investment company. On February 9, 2005 and in reliance on Rule 17a-8 under the Act, applicant's Board of Managers approved merging applicant into the JNL/Mellon Capital Management JNL 5 Fund, a portfolio of the JNL Variable Fund LLC. On April 29, 2005, applicant distributed all of its assets to its shareholders based on net asset value. Aggregate expenses of approximately $8,733 incurred in connection with the merger were paid by applicant's adviser, Jackson National Asset Management, LLC.

Filing Date: The application was filed on May 24, 2005.

Applicant's Address: 1 Corporate Way, Lansing, Michigan 48951.

JNL Variable Fund V LLC [File No. 811-9367]

Summary: Applicant seeks an order declaring that it has ceased to be an investment company. On February 9, 2005 and in reliance on Rule 17a-8 under the Act, applicant's Board of Managers approved merging applicant into the JNL/Mellon Capital Management JNL 5 Fund, a portfolio of the JNL Variable Fund LLC. On April 29, 2005, applicant distributed all of its assets to its shareholders based on net asset value. Aggregate expenses of approximately $8,733 incurred in connection with the merger were paid by applicant's adviser, Jackson National Asset Management, LLC.

Filing Date: The application was filed on May 24, 2005.

Applicant's Address: 1 Corporate Way, Lansing, Michigan 48951.

JNLNY Variable Fund II LLC [File No. 811-9947]

Summary: Applicant seeks an order declaring that it has ceased to be an investment company. Applicant requests deregistration based on abandonment of registration. Applicant did not commence operations and is not now engaged, or intending to engage, in any business activities other than those necessary for winding up its affairs.

Filing Date: The application was filed on May 24, 2005.

Applicant's Address: 1 Corporate Way, Lansing, Michigan 48951.

For the Commission, by the Division of Investment Management, pursuant to delegated authority.
Margaret H. McFarland,
Deputy Secretary.

[FR Doc. E5-4789 Filed 8-31-05; 8:45 am]

BILLING CODE 8010-01-P